DEPARTMENT OF COMMERCE

National Oceanic and Atmospheric Administration

50 CFR Part 660

[Docket No. 020430101-2101-01; I.D. 092502H]

Fisheries Off West Coast States and in the Western Pacific; West Coast Salmon Fisheries; Inseason Action 12—Adjustment of the Recreational Fishery From the Queets River to Leadbetter Point, WA (Westport Area)

AGENCY: National Marine Fisheries Service (NMFS), National Oceanic and Atmospheric Administration (NOAA), Commerce.

ACTION: Adjustment; request for comments.

SUMMARY: NMFS announces that the recreational fishery in the area from the Queets River to Leadbetter Point, WA (Westport Area), was modified to reopen Sunday, August 18, 2002, through midnight on Monday, August 19, 2002. The area continued with a bag limit of two fish per day, but only 1 chinook, and all retained coho required to have a healed adipose fin clip, and a chinook minimum size limit of 28 inches (71.1 cm) total length. All other restrictions remained in effect as announced for 2002 ocean salmon fisheries. The Northwest Regional Administrator, NMFS (Regional Administrator), determined that available catch and effort data indicated that these management measures should be implemented to provide greater access to the coho and chinook quotas. This action was necessary to conform to the 2002 management goals.

DATES: Adjustment in the Westport Area effective 0001 hours local time (l.t.), August 18, 2002, through 2359 hours l.t., August 19, 2002, or until modified by a subsequent inseason action, which will be published in the Federal Register for the west coast salmon fisheries, or until the effective date of the year 2003 management measures. Comments will be accepted through October 25, 2002.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator modified the season for the recreational fishery in the Westport sub-area to reopen Sunday, August 18, 2002, through midnight on Monday, August 19, 2002. The area continued with a bag limit of two fish per day, but only 1 chinook, and all retained coho required to have a healed adipose fin clip, and a chinook minimum size limit of 28 inches (71.1 cm) total length. Information provided on August 15, 2002, regarding the available catch and effort data indicated that these management measures should be implemented to provide greater access to the coho and chinook quotas. Modification of fishing seasons is authorized by regulations at 50 CFR 660.409(b)(1)(i).

In the 2002 annual management measures for ocean salmon fisheries (67 FR 30616, May 7, 2002), NMFS announced the recreational fishery in the area from the U.S.-Canada Border to Cape Falcon, OR, would have an overall chinook quota of 67,500 fish, with each of its four sub-areas having a chinook guideline. The Westport sub-area was announced to open June 30 through the earlier of September 8, 2002, or a 39,280 coho subarea quota, with a guideline of 32,000 chinook.

The recreational fishery in Westport sub-area was modified twice by inseason action. The fishery was first modified to establish a chinook minimum size limit of 28 inches (71.1 cm) total length from the U.S.-Canada Border to Leadbetter Point, WA, and 26 inches (66.0 cm) total length from Leadbetter Point, WA, to Cape Falcon, OR, effective July 21, 2002 (67 FR 52891, August 14, 2002). Information provided on July 18, 2002, regarding the available catch and effort data indicated that modifying the minimum size limit of 24 inches (61.0 cm) total length for chinook to the adjusted size limits should be implemented to slow the catch of chinook and provide greater access to the coho quota. Second, the Westport, WA, sub-area was modified to close at midnight August 15, 2002, with the bag limit also modified to two fish per day, but only 1 chinook, and all retained coho required to have a healed adipose fin clip (67 FR 61041, September 27, 2002). The chinook minimum size limit continued to be 28 inches (71.1 cm) total length. These modifications to the fishing season were adopted to avoid closing the fishery early due to reaching the chinook quota, thus precluding the opportunity to catch available marked hatchery coho salmon that typically show up in greater numbers later in the season.

On August 15, 2002, the Regional Administrator consulted with representatives of the Pacific Fishery Management Council, Washington Department of Fish and Wildlife, and Oregon Department of Fish and Wildlife by conference call. Information related to catch to date, the chinook and coho catch rates, and effort data indicated that there was enough chinook left in the quota to allow two more days of fishing, without foreclosing opportunity of fishers to harvest marked coho in the other sub-areas. As a result, the States of Washington and Oregon recommended, and the Regional Administrator concurred, that the recreational fishery in the Westport, WA, sub-area needed modification to reopen on Sunday, August 18, 2002, through midnight on Monday, August 19, 2002, to access the available chinook and marked coho left in the sub-area quotas. In addition, the area was to continue with a bag limit of two fish per day, but only 1 chinook, and all retained coho required to have a healed adipose fin clip, and a chinook minimum size limit of 28 inches (71.1 cm) total length. All other restrictions that applied to this fishery remained in effect as announced in the 2002 annual management measures.

The Regional Administrator determined that the best available information indicated that the catch and effort data, and projections, supported the above inseason action recommended by the States. The States manage the fisheries in State waters adjacent to the areas of the U.S. exclusive economic zone in accordance with this Federal action. As provided by the inseason notice procedures of 50 CFR 660.411, actual notice to fishers of the above described action was given prior to the effective date by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B), or delaying the effectiveness of this rule for 30 days under 5 U.S.C. 553(d)(3), because such notification and delay would be impracticable and contrary to the public interest. As previously noted, actual notice of this action was provided to fishers through telephone hotline and radio notification. This action complies with the requirements of the annual management measures for ocean salmon fisheries (67 FR 30616, May 7, 2002) and the West Coast Salmon Plan. Prior notice and opportunity for public comment was impracticable because NMFS and the state agencies have insufficient time to provide for prior notice and the opportunity for public comment between the time the fishery catch and effort data are collected to determine the extent of the fisheries, and the time the limits to which the fishery must be adjusted to reduce harvest rates in the fishery must be in place. Moreover, such prior notice and the opportunity for public comment is contrary to the public interest because it does not allow recreational fishermen appropriately controlled access to the available fish at the time they are available.

The AA finds good cause to waive the 30-day delay in effectiveness required under 5 U.S.C. 553(d)(3). A delay in effectiveness of this action would not allow recreational fishermen appropriately controlled access to the available fish at the time they are available.

This action is authorized by 50 CFR 660.409 and 660.411 and is exempt from review under Executive Order 12866.

Authority: 16 U.S.C. 1801 et seq.

Dated: October 3, 2002.
Virginia M. Fay,
Acting Director, Office of Sustainable Fisheries, National Marine Fisheries Service.

[FR Doc. 02-25710 Filed 10-9-02; 8:45 am]

BILLING CODE 3510-22-M